DEPARTMENT OF COMMERCE

International Trade Administration

[A-583-843]

Polyethylene Retail Carrier Bags From Taiwan: Affirmative Final Determination of Circumvention of the Antidumping Duty Order

AGENCY: Enforcement and Compliance, International Trade Administration, Commerce.

SUMMARY: The Department of Commerce (the Department) determines that imports of unfinished polyethylene retail carrier bags (PRCBs) from Taiwan are circumventing the antidumping duty order on PRCBs from Taiwan.¹

¹ See Antidumping Duty Orders: Polyethylene Retail Carrier Bags from Indonesia, Taiwan, and the Socialist Republic of Vietnam, 75 FR 23667 (May 4, 2010) (the Order).

DATES: Effective October 9, 2014.

FOR FURTHER INFORMATION CONTACT: Hermes Pinilla or Minoo Hatten, Office I, Enforcement and Compliance, International Trade Administration, U.S. Department of Commerce, 14th Street and Constitution Avenue NW., Washington, DC, 20230; telephone: (202) 482-3477, and (202) 482-1690, respectively.

Background

We initiated an anti-circumvention inquiry of the antidumping duty order on PRCBs from Taiwan on July 31, 2013, pursuant to section 781(a) of the Tariff Act of 1930, as amended, (the Act) and 19 CFR 351.225(g).² We published the affirmative preliminary determination on June 2, 2014, finding that imports of unfinished PRCBs from Taiwan are circumventing the Order.³

² See Polyethylene Retail Carrier Bags From Taiwan: Initiation of Anti-circumvention Inquiry on Antidumping Duty Order, 78 FR 46319 (July 31, 2013).

³ See Polyethylene Retail Carrier Bags From Taiwan: Affirmative Preliminary Determination of Circumvention of the Antidumping Duty Order, 79 FR 31302 (June 2, 2014) (Preliminary Determination).

We invited interested parties to comment on the Preliminary Determination. We received no comments.

Scope of the Order

The merchandise subject to the Order is PRCBs which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm). PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners. Imports of the subject merchandise are currently classifiable under statistical category 3923.21.0085 of the Harmonized Tariff Schedule of the United States (HTSUS). This subheading also covers products that are outside the scope of the order. Furthermore, although the HTSUS subheading is provided for convenience and customs purposes, our written description of the scope of the order is dispositive.

Scope of the Circumvention Inquiry

This circumvention inquiry covers merchandise from Taiwan that appears ready to undergo the final processing of cutting the unfinished PRCBs to length, sealing the bottoms, and die-cutting the unfinished PRCBs to create the handles of the finished PRCBs. The unfinished PRCBs subject to this inquiry may or may not have printing and may be of different dimensions as long as they otherwise meet the description of the scope of the order.

Final Determination

In the Preliminary Determination, we determined that imports of unfinished PRCBs from Taiwan are circumventing the Order. Specifically, we determined that imports of unfinished PRCBs from Taiwan are being completed and sold in the United States pursuant to the statutory and regulatory criteria laid out in section 781(a) of the Act and 19 CFR 351.225(g). We based our Preliminary Determination upon record evidence submitted by the petitioners and an importer, SmileMakers, Inc. For a complete discussion of the evidence which led to our preliminary determination, see the Preliminary Determination.⁴

⁴ Id.

Because no party provided any additional information or comments regarding our Preliminary Determination, our final determination remains unchanged from the Preliminary Determination. Accordingly, we determine, pursuant to section 781(a) of the Act and 19 CFR 351.225(g), that imports of unfinished PRCBs from the Taiwan are circumventing the Order.

Continuation of Suspension of Liquidation

As a result of this determination, and consistent with 19 CFR 351.225(l)(3), we intend to direct U.S. Customs and Border Protection to continue to suspend liquidation and to require a cash deposit of estimated antidumping duties at the applicable rate on unliquidated entries of merchandise subject to this inquiry that are entered, or withdrawn from warehouse, for consumption on or after July 31, 2013, the date of publication of the initiation of this inquiry.⁵

⁵ Id.

Notifications to Interested Parties

This notice serves as the only reminder to parties subject to the administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

This determination of circumvention is in accordance with section 781(a) of the Act and 19 CFR 351.225(g).

Dated: October 3, 2014.
Paul Piquado,
Assistant Secretary for Enforcement and Compliance.

[FR Doc. 2014-24156 Filed 10-8-14; 8:45 am]

BILLING CODE 3510-DS-P